ARCHITECTURAL AND TRANSPORTATION BARRIERS COMPLIANCE BOARD

36 CFR Part 1195

[Docket No. ATBCB-2012-0003]

RIN 3014-AA40

Medical Diagnostic Equipment Accessibility Standards Advisory Committee

AGENCY: Architectural and Transportation Barriers Compliance Board.

ACTION: Notice of establishment; appointment of members.

SUMMARY: The Architectural and Transportation Barriers Compliance Board (Access Board) has decided to establish an advisory committee to assist on matters associated with comments received and responses to questions included in a previously published Notice of Proposed Rulemaking on Medical Diagnostic Equipment Accessibility Standards.

DATES: The first meeting of the committee will be held at a date and time in September 2012. A notice of the actual date and times will be published in the Federal Register prior to the meeting. Decisions with respect to future meetings will be made at the first meeting and from time to time thereafter.

ADDRESSES: The first meeting of the committee will be held at the Access Board's offices, 1331 F Street NW., Suite 800, Washington, DC 20004.

FOR FURTHER INFORMATION CONTACT: Rex Pace, Office of Technical and Information Services, Architectural and Transportation Barriers Compliance Board, 1331 F Street NW., Suite 1000, Washington, DC 20004-1111. Telephone number (202) 272-0023 (Voice); (202) 272-0052 (TTY). Electronic mail address: pace@access-board.gov.

SUPPLEMENTARY INFORMATION: In March 2012, the Access Board published a notice of intent to establish an advisory committee to make recommendations to the Board on matters associated with comments received and responses to questions included in a previously published Notice of Proposed Rulemaking (NPRM) on Medical Diagnostic Equipment Accessibility Standards. See 77 FR 14706 (March 13, 2012).

Section 510 of the Rehabilitation Act (29 U.S.C. 794f) requires the Access Board to issue accessibility standards for medical diagnostic equipment, in consultation with the Food and Drug Administration. In February 2012, the Access Board published an NPRM proposing the accessibility standards. See 77 FR 6916 (February 9, 2012). The proposed standards contain minimum technical criteria to ensure that medical diagnostic equipment, including examination tables, examination chairs, weight scales, mammography equipment, and other imaging equipment used by health care providers for diagnostic purposes are accessible to and usable by individuals with disabilities. The proposed standards are intended to ensure, to the maximum extent possible, independent entry to, use of, and exit from such equipment by individuals with disabilities. The proposed standards do not impose any mandatory requirements on health care providers or medical device manufacturers. However, other agencies may issue regulations or adopt policies that require health care providers subject to the agency's jurisdiction to acquire accessible medical diagnostic equipment that conforms to the standards. The NPRM and information related to the proposed standards are available on the Access Board's Web site at: http://www.access-board.gov/medical-equipment.htm.

For the reasons stated in the notice of intent, the Access Board has determined that establishing a Medical Diagnostic Equipment Accessibility Standards Advisory Committee (Committee) is necessary and in the public interest. The Access Board has appointed the following organizations as members to the Committee:

The ADA National Network

Boston Center for Independent Living

Brewer Company

Conference of Radiation Control Program Directors, Inc.

Duke University and Medical Center

Equal Rights Center

Evan Terry Associates, P.C.

GE Healthcare

Harris Family Center for Disability and Health Policy at Western University of Health Sciences

Hausmann Industries, Inc.

Hill-Rom Company, Inc.

Hologic, Inc.

Medical Positioning, Inc.

Medical Technology Industries, Inc.

Midmark Corporation

National Council on Independent Living

Paralyzed Veterans of America

Philips Healthcare

Scale-Tronix, Inc.

Siemens Medical Solutions USA, Inc.

Stryker Medical

Sutter Health

United Spinal Association

University of the Sciences in Philadelphia, Department of Occupational Therapy

The Department of Justice, Department of Health and Human Services (Food and Drug Administration), and the Department of Veterans Affairs will serve as ex officio members.

The Access Board regrets its inability to accommodate all requests for membership on the Committee. It was necessary to limit membership to maintain balance among members representing different interests such as medical device manufacturers, health care providers, and disability organizations. The Committee membership identified above provides representation for interests affected by the issues to be discussed.

The comment period on the NPRM ended on June 8, 2012. Fifty-three comments were received by the end of the comment period. Access Board staff is conducting a preliminary analysis of the public comments to assist the Committee in its deliberations.

The Committee's first meeting will be held at a date and time in September 2012. A notice of the actual date and times will be published in the Federal Register prior to the meeting. Decisions with respect to future meetings will be made at the first meeting and from time to time thereafter. Meetings will be held at the Access Board's offices, 1331 F Street NW., suite 800, Washington, DC 20004. The Committee is expected to hold no more than four meetings and present a report with its recommendations to the Access Board within two months of the Committee's first meeting.

Committee meetings will be open to the public, and interested persons can attend the meetings and communicate their views. Members of the public will have opportunities to address the Committee on issues of interest to them and the Committee. Members of groups or individuals who are not members of the Committee may also have the opportunity to participate if subcommittees of the Committee are formed.

Susan Brita,
Chair.

[FR Doc. 2012-16319 Filed 7-3-12; 8:45 am]

BILLING CODE 8150-01-P